DEPARTMENT OF COMMERCE

National Oceanic and Atmospheric Administration

Payment Policy Change for Access to NOAA Environmental Data, Information, and Related Products and Services

AGENCY: National Environmental Satellite, Data and Information Service (NESDIS), National Oceanic and Atmospheric Administration (NOAA), Department of Commerce.

ACTION: Notice of Policy Change.

SUMMARY: NOAA's National Data Centers will not accept checks (nor money orders) in payment for orders. Prepayment is required and the accepted forms of payment are Visa, MasterCard, American Express, Discover, wire transfers and Automated Clearing House. Please refer to the NNDC Non-Federal Customer Payment Policy for additional information.

DATES: Effective Date: July 1, 2011.

FOR FURTHER INFORMATION CONTACT: Angel Robinson (301) 713-9230 ext 186.

Dated: June 20, 2011.
Cherish Johnson,
Deputy Chief, Financial Officer (CFO/CAO).

New Payment Policy

NOAA's National Data Centers (NNDC)

[Tax ID 52-0821608]

National Climatic Data Center (NCDC), Asheville, NC

National Geophysical Data Center (NGDC), Boulder, CO

National Oceanographic Data Center (NODC), Silver Spring, MD

Non-Federal Customer Payment Policy

All non-federal customers must pay in advance unless this requirement is specifically waived. Please include payment for any RUSH, special mailing, or bank transfer fee charges.

*Payment methods*

*Charge Card

NNDC accepts payment in U.S. currency, by VISA, MasterCard, American Express, and Discover. Cardholder's name, charge card number, expiration date, and signature are required. When indicating this method of payment via mail or fax, the cardholder must sign the document authorizing the charge.

*Wire Transfers

Payments, in U.S. currency, should be sent directly to Federal Reserve Bank of New York, 33 Liberty Street, New York, NY 10045 with the following information:

Tag name | Tag number | Required information
Type/Subtype Code | (1,510) | 1000
Dollar Amount ON-Y | (2,000) | $9,999,999.99 (EXAMPLE ONLY)
Sender Financial Institution | (3,100) | Sending Fin. Inst's Routing & Transit # and Bank Name
Sender Reference | (3,320) | Completed by Sender
Receiver Financial Institution | (3,400) | 021030004 TREAS NYC
Beneficiary | (4,200) | D
| —NOAA National | 13140001
|  | Data Centers
Originator to Beneficiary Info. | (6,000) | Payment Detail (e.g. Order #)
Swift Code (if required) |  | FRNYUS33
** Note: In addition to the total cost of your data/product(s) order, you MUST add your bank's wire transfer fee to ensure delays are not incurred in processing your request. Please contact your bank for the correct wire transfer fee amount.**
* Automated Clearing House (ACH)
Payments, in U.S. currency, should be sent directly to Federal Reserve Bank of New York, 33 Liberty Street, New York, NY 10045 with the following information:

Company Name | Name of Remitter
Company ID | Tax ID
Company Entry Description | FEE (EXAMPLE ONLY)
Date
Receiving Company ABA | 0510-3670-6
Account Number | 540022
Dollar Amount | Supplied by Remitter
Individual ID Number | Order # or Pro forma #
Agency Name | NOAA National Data Centers
** Note: In addition to the total cost of your data/product(s) order, you MUST add your bank's ACH transfer fee to ensure delays are not incurred in processing your request. Please contact your bank for the correct ACH transfer fee amount.**

[FR Doc. 2011-16812 Filed 7-5-11; 8:45 am]

BILLING CODE 3510-22-P